DEPARTMENT OF DEFENSE

Department of the Navy

[USN-2006-0044]

Privacy Act of 1974; System of Records

AGENCY: Department of the Navy, DoD.

ACTION: Notice to amend systems of records.

SUMMARY: The Department of the Navy is amending a system of records notice in its existing inventory of record systems subject to the Privacy Act of 1974, (5 U.S.C. 552a), as amended.

DATES: This proposed action will be effective without further notice on September 5, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 31, 2006.
C.R. Choate,
Alternate OSD Federal Register Liaison Officer, Department of Defense.

N01754-4

System name:

Navy Disaster Accounting and Assessment System (DAAS) (May 5, 2006, 71 FR 26482).

Changes:

System name:

Delete entry and replace with “Navy Family Accountability and Assessment System (NFAAS).”

* * * * *

Categories of individuals covered by the system:

Delete entry and replace with “Navy personnel (military and civilian) and their families who are involved in a natural or other man made major disaster or catastrophic event.”

* * * * *

N01754-4

System name:

Navy Family Accountability and Assessment System (NFAAS)

System location:

Space and Naval Warfare Systems Center, 53560 Hull Street, San Diego, CA 92152-5001.

Categories of individuals covered by the system:

Navy personnel (military and civilian) and their families who are involved in a natural or other man made major disaster or catastrophic event.

Categories of records in the system:

Name; home and duty station addresses; home, business, and cell telephone numbers; military/civilian status; Social Security Number; dates of birth; Unit Identification Code (UIC); date of last contact; insurance company; FEMA Number; email address; dependent information; travel orders/vouchers; assessment date; needs assessment information; type of event; category classification; and command information.

Authority for maintenance of the system:

10 U.S.C. 5013, Secretary of the Navy and E.O. 9397 (SSN).

Purpose(s):

To assess disaster-related needs (i.e., status of family members, housing, medical, financial assistance, employment, pay and benefits, transportation, child care, pastoral care/counseling, and general legal matters) of Navy personnel and their families who have been involved in a natural or other man-made major disaster or catastrophic event.

Routine uses of records maintained in the system, including categories of users and the purposes of such uses:

In addition to those disclosures generally permitted under 5 U.S.C. 552a(b) of the Privacy Act, these records or information contained therein may specifically by disclosed outside the DoD as a routine use pursuant to 5 U.S.C. 552a(b)(3) as follows:

The DoD “Blanket Routine Uses” set forth at the beginning of the Navy's compilation of systems of records notices also apply to this system.

Policies and practices for storing, retrieving, accessing, retaining, and disposing of records in the system:

Storage:

Web based tool.

Retrievability:

Name, Social Security Number and date of birth.

Safeguards:

Password controlled system, file, and element access is based on predefined need-to-know. Physical access to terminals, terminal rooms, buildings and activities' grounds are controlled by locked terminals and rooms, guards, personnel screening and visitor registers.

Retention and disposals:

Records are destroyed two years after all actions are completed.

System manager(s) and address:

Commander, Navy Installations Command, 2713 Mitscher Road, SW., Ste. 300, Anacostia Annex, DC 20373-5882.

Notification procedure:

Individuals seeking to determine whether this system of records contains information about themselves should address written inquiries to the Commander, Navy Installations Command, 2713 Mitscher Road, SW., Ste. 300, Anacostia Annex, DC 20373-5882.

The request should include full name, Social Security Number, and address of the individual concerned and should be signed.

Record access procedures:

Individuals seeking access to records about themselves contained in this system of records should address written inquiries to the Commander, Navy Installations Command, 2713 Mitscher Road, SW., Ste. 300, Anacostia Annex, DC 20373-5882.

The request should include full name, Social Security Number, date of birth and should be signed.

Contesting record procedures:

The Navy's rules for accessing records, and for contesting contents and appealing initial agency determinations are published in Secretary of the Navy Instruction 5211.5; 32 CFR part 701; or may be obtained from the system manager.

Record source categories:

Individual; personnel files; Needs Assessment Survey; Defense Manpower Data Center; Defense Civilian Personnel Data System (DCPDS); and command personnel.

Exemptions claimed for the system:

None.

[FR Doc. 06-6678 Filed 8-3-06; 8:45 am]

BILLING CODE 5001-06-M